DEPARTMENT OF DEFENSE

Department of the Army

Advisory Committee Meeting Notice

AGENCY: Department of the Army, DoD.

ACTION: Notice of meeting.

SUMMARY: In accordance with Section 10(a)(2) of the Federal Advisory Committee Act (Pub. L. 92-463), announcement is made of the following meeting:

Name of Committee: Distributed Learning/Training Technology Subcommittee of the Army Education Advisory Committee.

Date: 18-19 September 2007.

Place: Building 1737, Fort Eustis, VA.

Time: 0800-1630 on September 18, 2007; 0800-1500 on September 19, 2007.

Proposed Agenda: Initial starting point of meeting will include Updates on The Army Distributed Learning Program (TADLP) and infrastructure, followed by discussions that focus on learning and technology.

Purpose of the Meeting: To provide for the continuous exchange of information and ideas for distributed learning between the U.S. Army Training and Doctrine Command (TRADOC), HQ Department of the Army, and the academic and business community.

FOR FURTHER INFORMATION CONTACT: All communications regarding this subcommittee should be addressed to MAJ Brian Tidwell, at Commander, Headquarters TRADOC, ATTN: ATTG-CL (MAJ Tidwell), Fort Monroe, VA 23651-5000; telephone number (757) 788-5532.

SUPPLEMENTARY INFORMATION: Meeting of the advisory committee is open to the public. Because of restricted meeting space, attendance will be limited to those persons who have notified the Advisory Committee Management Office in writing at least five days prior to the meeting of their intention to attend. Contact MAJ Tidwell (757-788-5532) for meeting agenda and specific leocations.

Any member of the public may file a written statement with the committee before, during, or after the meeting. To the extent that time permits, the committee chairman may allow public presentations or oral statements at the meeting.

Robert E. Seger,
Senior Executive Service, Assistant Deputy Chief of Staff, G-3/5/7.

[FR Doc. 07-4058 Filed 8-17-07; 8:45 am]

BILLING CODE 3710-08-M